DEPARTMENT OF ENERGY

Federal Energy Regulatory Commission

Privacy Act of 1974: Notice of Altered Systems of Records

AGENCY: Federal Energy Regulatory Commission, DOE.

ACTION: Notice of altered systems of records.

SUMMARY: The Federal Energy Regulatory Commission (the Commission), under the requirements of the Privacy Act of 1974, 5 U.S.C. 552a, is publishing a description of an altered system of records (FERC-46).

ADDRESSES: Comments should be directed to the following address: Office of the General Counsel, General and Administrative Law Division, Federal Energy Regulatory Commission, 888 First Street NE., Washington, DC 20426.

DATES: The proposed revised system will become effective October 17, 2016 unless further notice is given. The Commission will publish a new notice if the effective date is delayed to review comments or if changes are made based on comments received. To be assured of consideration, comments should be received on or before October 7, 2016.

FOR FURTHER INFORMATION CONTACT: Kathryn Allen, Office of the General Counsel, General and Administrative Law Division, Federal Energy Regulatory Commission, 888 First Street NE., Washington, DC 20426, (202) 502-8585.

SUPPLEMENTARY INFORMATION:

I. Report on the Altered Systems

A. Background

The Privacy Act of 1974, 5 U.S.C. 552a, requires that each agency publish a notice of the existence and character of each new or altered “system of records.” 5 U.S.C. 552a(a)(5). This Notice identifies and describes the Commission's altered systems of records. A copy of this report has been distributed to the Speaker of the House of Representatives and the President of the Senate as the Act requires.

The Commission has adopted an altered system of records under the Privacy Act of 1974. The notice includes for this systems of records the name; location; categories of individuals on whom the records are maintained; categories of records in the system; authority for maintenance of the system; each routine use; the policies and practices governing storage, retrievability, access controls, retention and disposal; the title and business address of the agency official responsible for the system of records; procedures for notification, access and contesting the record; and the source for the records in the system. 5 U.S.C. 552(a)(4).

B. New or Altered System of Records

FERC-46 Commission Freedom of Information Act and Privacy Act Request Files http://www.ferc.gov/privacy/sorn-maps.pdfhttp://www.ferc.gov/privacy/sorn-fpps.pdf.

FERC-46 SYSTEM NAME:

Commission Freedom of Information Act and Privacy Act Request Files.

SECURITY CLASSIFICATION:

Unclassified

SYSTEM LOCATION:

Federal Energy Regulatory Commission, Office of External Affairs, 888 First Street NE., Washington, DC 20426

CATEGORIES OF INDIVIDUALS COVERED BY THE SYSTEM:

All individuals requesting records from FERC under the provisions of the Freedom of Information Act (FOIA) and the Privacy Act (PA) of 1974.

CATEGORIES OF RECORDS IN THE SYSTEM:

Requester's name and address, request number, description of request, billing information, tracking information, and all correspondence with the requester.

AUTHORITY FOR MAINTENANCE OF THE SYSTEM:

5 U.S.C. 552, 552a; Executive Order 12009.

PURPOSE(S):

To record, track and maintain a complete record of events and ensure proper document control of time sensitive responses to FOIA and PA inquiries.

ROUTINE USES OF RECORDS MAINTAINED IN THE SYSTEM, INCLUDING CATEGORIES OF USERS AND THE PURPOSES OF SUCH USES:

To maintain a tracking system to expedite responses within the statutory time limits for the FOIA requests; to contact FOIA requesters; to prepare an annual report to the U.S. Department of Justice for submission to Congress each fiscal year under section 552(e) of the Freedom of Information Act; to prepare periodic activity reports for the Director, Office of External Affairs, to serve as a point of reference for all events and documents pertinent to the request in case of litigation; and to provide the National Archives and Records Administration, Office of Government Information Services (OGIS) to the extent necessary with information to fulfill its responsibilities in 5 U.S.C. 552(h), to review administrative agency policies, procedures and compliance with FOIA and to facilitate OGIS offering of mediation services to resolve disputes between persons making FOIA requests and administrative agencies.

DISCLOSURE TO CONSUMER REPORTING AGENCIES:

None.

POLICIES AND PRACTICES FOR STORING, RETRIEVING, ACCESSING, RETAINING, AND DISPOSING OF RECORDS IN THE SYSTEM:

STORAGE:

Records are maintained in electronic and paper format. Electronic records are stored in computerized databases and/or on computer disc. Paper records and records on computer disc are stored in locked file rooms and/or file cabinets.

RETRIEVABILITY:

The records are retrieved by the names of the individual requester, affiliation (where applicable), and subject matter.

SAFEGUARDS:

Records are maintained in lockable metal file cabinets in a lockable room with a key distributed to those whose official duties require access. Computer data is secured by password. The building is guarded and monitored by security personnel, cameras, ID checks, and other physical security measures.

RETENTION AND DISPOSAL:

The retention period is two years after completion date if the information is released or six years after completion date if any or all information is withheld from the requester. Computer records are deleted and paper records are shredded and destroyed.

SYSTEM MANAGER(S) AND ADDRESS:

FOIA Liaison, Office of External Affairs, Federal Energy Regulatory Commission, 888 First Street NE., Washington, DC 20426.

NOTIFICATION PROCEDURE:

Requests from individuals to determine if a system of records contains information about them should be directed to the System Manager.

RECORD ACCESS PROCEDURES:

Requests for access to records should be directed to the Director, Office of External Affairs, Federal Energy Regulatory Commission, 888 First Street NE., Washington, DC 20426.

CONTESTING RECORD PROCEDURES:

Same as notification procedure above.

RECORD SOURCE CATEGORIES:

The subject individual; system manager; FERC staff, and the Director, Office of External Affairs.

EXEMPTIONS CLAIMED FOR THE SYSTEM:

None.

Dated: August 30, 2016
Kimberly D. Bose,
Secretary.

[FR Doc. 2016-21418 Filed 9-6-16; 8:45 am]

BILLING CODE 6717-01-P